DEPARTMENT OF HEALTH AND HUMAN SERVICES

National Institutes of Health

Eunice Kennedy Shriver National Institute of Child Health & Human Development; Amended Notice of Meeting

Notice is hereby given of a change in the meeting of the National Advisory Child Health and Human Development Council, September 09, 2025, 09:30 a.m. to September 10, 2025, 05:00 p.m., National Institutes of Health, Natcher Building, 45 Center Drive, Bethesda, MD 20892 which was published in the Federal Register on June 26, 2025, 90 FR 27328.

The FRN amended needed adjustment to reflect additional session for council. The meeting is partially closed to the public.

Dated: July 24, 2025.
Bruce A. George,
Program Analyst, Office of Federal Advisory Committee Policy.

[FR Doc. 2025-14241 Filed 7-28-25; 8:45 am]

BILLING CODE 4140-01-P